DEPARTMENT OF THE INTERIOR

Bureau of Reclamation

Notice of Intent To Prepare an Environmental Impact Statement for the Systems Conveyance and Operations Program

AGENCY: Bureau of Reclamation, Department of the Interior.

ACTION: Notice of Intent to Prepare an Environmental Impact Statement for the Systems Conveyance and Operations Program.

SUMMARY: Under the provisions of the National Environmental Policy Act (NEPA) of 1969, as amended, and the Council on Environmental Quality's regulations for implementing the procedural provisions of NEPA, the Bureau of Reclamation, Lower Colorado Region (Reclamation) and the National Park Service (NPS), Lake Mead National Recreation Area, propose to prepare an Environmental Impact Statement (EIS). Reclamation and the NPS are preparing the EIS as joint-lead Federal agencies to evaluate the potential impacts associated with the construction, operation, and maintenance of the Systems Conveyance and Operations Program (SCOP), which may include process improvements, supplemental treatment facilities, and/or a transmission facility to convey treated effluent directly into and under the surface of the Colorado River system within the Lake Mead National Recreation Area.

Current effluent discharge is causing erosion problems to wetlands within the Las Vegas Wash, especially within the Clark County Wetlands Park where wetland restoration is underway. The SCOP is intended to maintain the integrity and quality of the treated effluent as it increases through time and is conveyed into Lake Mead. The project will also reduce erosion within Las Vegas Wash and the Clark County Wetlands Park aiding in their restoration.

ADDRESSES: You may submit comments concerning the EIS's scope, the issues to cover, the alternatives to consider, and other resource concerns. Your comments may be submitted by mail or hand delivered to Mr. James Green, Regional Environmental Officer, Bureau of Reclamation, Lower Colorado Region, LC-2530, P.O. Box 61470, Boulder City, NV 89006-1470; or Mr. William K. Dickinson, Superintendent, National Park Service, Lake Mead National Recreation Area, 601 Nevada Way, Boulder City, NV 89005. Comments will be accepted for 45 days after publication of this notice and will conclude on September 1, 2002.

Written comments received by Reclamation and the NPS become part of the public record associated with this action. Accordingly, Reclamation and the NPS make these comments, including names and home addresses of respondents, available for public review. Individual respondents may request that we withhold their name and address from public disclosure, which we will honor to the extent allowable by law. There also may be circumstances in which we would withhold a respondent's identity from public disclosure, as allowable by law. If you wish us to withhold your name and/or address, you must state this prominently at the beginning of your comment letter. We will make all submissions from organizations or businesses, and from individuals themselves as representatives or officials of organizations or businesses, and from individuals identifying themselves as representatives or officials of organizations or businesses, available for public disclosure in their entirety. Anonymous comments will not be considered.

Hearing impaired, visually impaired, and/or mobility impaired persons planning to attend these meeting may arrange for necessary accommodations by contacting Ms. Carrie Stewart at telephone (702) 939-6101, extension 222 or faxogram (702) 939-6108, no later than two weeks prior to the meeting date.

DATES: Reclamation, the NPS, and the Clean Water Coalition will conduct public meetings in open house format to involve the public in issue identification and the alternative development processes. Oral and written comments will be accepted at the public scoping meetings to be held at the following locations:

August 12, 2002, 6:30-8:30 p.m., Henderson Convention Center, 200 S. Water St., Henderson, Nevada.

August 13, 2002, 6:30-8:30 p.m., Winchester Community Center, 3130 S. McLeod Dr., Las Vegas, Nevada.

August 14, 2002, 6:30-8:30 p.m., West Flamingo Senior Center, 6255 W. Flamingo Road, Las Vegas Nevada.

August 15, 2002, 6:30-8:30 p.m., West Sahara Library, 9600 W. Sahara Avenue, Las Vegas, Nevada.

August 19, 2002, 6:30-8:30 p.m., Tempe Mission Palms Resort, 60 E. 5 St., Tempe, Arizona.

August 20, 2002, 6:30 to 8:30 p.m., Black Canyon Conference Center, 9440 N. 25th Ave., Phoenix, Arizona.

August 22, 2002, 6:30 to 8:30 p.m., Regency Room, Radisson in Mission Valley, 1433 Camino del Rio So., San Diego, California.

August 23, 2002, 6:30 to 8:30 p.m., Hyatt Regency Conference Center, 285 N. Palm Canyon Dr., Palm Springs, California.

FOR FURTHER INFORMATION: Contact Mr. James Green, Bureau of Reclamation; or Mr. William K. Dickinson, National Park Service at the addresses provided above under ADDRESSES.

SUPPLEMENTARY INFORMATION: The project proponent of the SCOP is the Clean Water Coalition, which is comprised of the City of Las Vegas, City of Henderson, and the Clark County Sanitation District, Las Vegas, Nevada. Construction activities and infrastructure associated with the SCOP would be located on private land, City of Las Vegas land, City of Henderson land, Clark County land, Reclamation lands in the area of the Las Vegas Wash, and lands administered by the NPS.

Currently, about 150 million gallons of treated effluent are discharged daily into the Las Vegas Wash, which then flows into Lake Mead. By 2030 it is estimated that this amount will increase to about 300 million gallons per day. The treated effluent meets Environmental Protection Agency and Nevada Department of Environmental Protection quality and quantity standards and will do so into the future. Before this treated effluent reaches Lake Mead, perchlorate and other contaminants in the Las Vegas shallow aquifer, and other non-point source contaminants, discharge into the Las Vegas Wash and mix with the treated effluent.

The EIS will address a range of alternatives, which include the no-action alternative and a number of action alternatives. The action alternatives will have a common physical element, which is an 84-inch to 114-inch diameter buried pipeline referred to as the Effluent Interceptor. It would have a capacity of about 300 million gallons per day of treated effluent derived from the three treatment facilities, and would end at a point located upstream of Lake Las Vegas. The action alternatives would diverge at the terminus of the Effluent Interceptor. The EIS will evaluate the potential environmental impacts associated with the Effluent Interceptor and the various alternatives including: no action (there will be no change to the current treatment processes and discharge locations); process improvements at the three treatment facilities; construction and operation of supplemental treatment facilities; and, construction and operation of a pipeline that would transport highly-treated effluent from the three treatment facilities to one or more receiving areas underwater within the Colorado River system. An impairment analysis will be conducted for the portion of the project that will be located on NPS-administered land. The EIS will evaluate the alternatives to determine their effects on a number of resource issues including but not limited to the following: water quality, surface water hydrology, groundwater, biological resources/endangered species, cultural resources, recreation, land use, air quality, noise, socioeconomics, and other appropriate resource issues identified during the scoping process.

Dated: July 1, 2002.
Lorri Gray,
Assistant Regional Director, Lower Colorado Region.

[FR Doc. 02-18911 Filed 7-25-02; 8:45 am]

BILLING CODE 4310-MN-P